DEPARTMENT OF HEALTH AND HUMAN SERVICES

Food and Drug Administration

21 CFR Chapter I

[Docket No. FDA-2012-N-0780]

Regulatory New Drug Review: Solutions for Study Data Exchange Standards; Notice of Meeting; Request for Comments; Correction

AGENCY: Food and Drug Administration, HHS.

ACTION: Announcement of meeting; request for comments; correction.

SUMMARY: The Food and Drug Administration (FDA) is correcting a document that appeared in the Federal Register of August 14, 2012 (77 FR 48491). The document announced a meeting entitled “Regulatory New Drug Review: Solutions for Study Data Exchange Standards.” The document was published with an incorrect email address. This document corrects that error.

FOR FURTHER INFORMATION CONTACT: Ron Fitzmartin, Office of Planning & Informatics, Center for Drug Evaluation and Research, Food and Drug Administration, 10903 New Hampshire Ave., Bldg. 51, Rm. 1160, Silver Spring, MD 20993-0002, 301-796-5333, FAX: 301-847-8443, email: CDERDataStandards@fda.hhs.gov.

SUPPLEMENTARY INFORMATION: In FR Doc. 2012-19748, appearing on page 48491 in the Federal Register of August 14, 2012, the following corrections are made:

1. On page 48491, in the first column, in the FOR FURTHER INFORMATION CONTACT section, the email address “CDERDataStandards@hhs.fda.gov” is corrected to read “CDERDataStandards@fda.hhs.gov.”

2. On page 48491, in the second column, in the SUPPLEMENTARY INFORMATION section, under “Registration,” the email address “CDERDataStandards@hhs.fda.gov” is corrected to read “CDERDataStandards@fda.hhs.gov.”

Dated: September 11, 2012.
Leslie Kux,
Assistant Commissioner for Policy.

[FR Doc. 2012-22793 Filed 9-14-12; 8:45 am]

BILLING CODE 4160-01-P